DEPARTMENT OF TRANSPORTATION

Federal Aviation Administration

14 CFR Part 39

[Docket No. FAA-2014-0255; Directorate Identifier 2014-NM-056-AD; Amendment 39-17840; AD 2014-09-05]

RIN 2120-AA64

Airworthiness Directives; Airbus Airplanes

AGENCY: Federal Aviation Administration (FAA), Department of Transportation (DOT).

ACTION: Final rule; request for comments.

SUMMARY: We are adopting a new airworthiness directive (AD) for certain Airbus Model A330-200 and -300 series airplanes, and Model A340-200 and -300 series airplanes. This AD requires repetitive inspections of certain sidestay upper cardan pins of the main landing gear (MLG), and associated nuts and retainer assemblies, and pin replacement if necessary. This AD also provides for an optional measurement of the cardan pin clearance dimensions (gap check) and corrective actions if necessary, which would terminate the repetitive inspections. This AD was prompted by a report of a sidestay upper cardan pin of the MLG migrating out of position. We are issuing this AD to detect and correct migration of the sidestay upper cardan pin, which could result in disconnection of the sidestay upper arm from the airplane structure, and could result in a landing gear collapse and consequent damage to the airplane and injury to occupants.

DATES: This AD becomes effective May 14, 2014.

The Director of the Federal Register approved the incorporation by reference of a certain publication listed in this AD as of May 14, 2014.

We must receive comments on this AD by June 13, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0255; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

The European Aviation Safety Agency (EASA), which is the Technical Agent for the Member States of the European Community, has issued EASA Airworthiness Directive 2014-0066, (correction) dated March 20, 2014 (referred to after this as the Mandatory Continuing Airworthiness Information, or “the MCAI”), to correct an unsafe condition for certain Airbus Model A330-200 and -300 series airplanes, and Model A340-200 and -300 series airplanes. The MCAI states:

An A330 aeroplane equipped with Basic (main landing gear) MLG was rolling out after landing when it experienced a nose wheel steering fault (unrelated to the safety subject addressed by this [EASA] AD), which resulted in the crew stopping the aeroplane on the taxiway after vacating the runway.

The subsequent investigation revealed that the right-hand MLG sidestay upper cardan pin had migrated out of position. The sidestay upper cardan nut and retainer were found in the landing gear bay detached from the upper cardan pin. The nut and the retainer were still bolted together.

This condition, if not detected and corrected, could lead to a complete migration of the sidestay upper cardan pin and a disconnection of the sidestay upper arm from the aeroplane structure, possibly resulting in MLG collapse with consequent damage to the aeroplane and injury to occupants.

To address this potential condition, Airbus published Alert Operators Transmission (AOT) A32L003-14, providing inspection instructions.

For the reasons described above, this [EASA] AD requires accomplishment of repetitive [detailed inspections for visible chrome] of the MLG upper cardan pin, nut and retainer [and pin replacement if necessary. This [EASA] AD also requires accomplishment of a gap check between wing rear spar fitting lugs and the bush flanges [and corrective actions if necessary. Corrective actions include repair or replacement of the cardan pin assembly].

You may examine the MCAI on the Internet at http://www.regulations.gov by searching for and locating Docket No. FAA-2014-0255.

Relevant Service Information

Airbus has issued Airbus Alert Operators Transmission (AOT) A32L003-14, dated March 10, 2014, including Appendices 1, 2, and 3 (the issue date is not specified on the appendices). The actions described in this service information are intended to correct the unsafe condition identified in the MCAI.

Differences Between This AD and the MCAI

Mandatory Continuing Airworthiness Information (MCAI) European Aviation Safety Agency Airworthiness Directive 2014-0066, (correction) dated March 20, 2014, specifies that accomplishment of the gap check and corrective actions constitute terminating action for the AD. We consider the replacement of the cardan pin assembly as specified in paragraph (g)(3) to be terminating action for the repetitive inspections required by this AD.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

FAA's Determination of the Effective Date

An unsafe condition exists that requires the immediate adoption of this AD. The FAA has found that the risk to the flying public justifies waiving notice and comment prior to adoption of this rule because migration of the sidestay upper cardan pin and disconnection of the sidestay upper arm from the airplane structure, could result in a landing gear collapse and consequent damage to the airplane and injury to occupants. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2014-0255; Directorate Identifier 2014-NM-056-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Interim Action

This AD is considered to be interim action. We are currently considering requiring a measurement of the cardan pin clearance dimensions (gap check) to determine that no gap exists between wing rear spar fitting lugs and the associated bush flanges of the left-hand and right-hand main landing gear (MLG), and applicable corrective actions, which will constitute terminating action for the repetitive inspections required by this AD action. However, the planned compliance time for the measurement would allow enough time to provide notice and opportunity for prior public comment on the merits of the measurement and applicable corrective actions.

Costs of Compliance

We estimate that this AD affects 83 airplanes of U.S. registry.

We also estimate that it will take about 1 work-hour per product to comply with the basic requirements of this AD. The average labor rate is $85 per work-hour. Based on these figures, we estimate the cost of this AD on U.S. operators to be $7,055, or $85 per product.

In addition, we estimate that any necessary follow-on actions will take about 4 work-hours and require parts costing $7,530, for a cost of $7,870 per product. We have no way of determining the number of aircraft that might need these actions.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-09-05 Airbus: Amendment 39-17840. Docket No. FAA-2014-0255; Directorate Identifier 2014-NM-056-AD.

(a) Effective Date

This AD becomes effective May 14, 2014.

(b) Affected ADs

None.

(c) Applicability

This AD applies to the airplanes identified in paragraphs (c)(1) and (c)(2) of this AD, certificated in any category.

(1) Airbus Model A330-201, A330-202, A330-203, A330-223, A330-243, A330-301, A330-302, A330-303, A330-321, A330-322, A330-323, A330-341, A330-342, and A330-343 airplanes, all manufacturer serial numbers (MSNs), equipped with basic (201252 series) main landing gear (MLG), or growth (201490 series) MLG.

(2) Airbus Model A340-211, A340-212, A340-213, A340-311, A340-312, and A340-313 airplanes, all MSNs, equipped with basic (201252 series) MLG or growth (201490 series) MLG.

(d) Subject

Air Transport Association (ATA) of America Code 32, Landing Gear.

(e) Reason

This AD was prompted by a report of a sidestay upper cardan pin of the MLG migrating out of position. We are issuing this AD to detect and correct migration of the sidestay upper cardan pin, which could result in disconnection of the sidestay upper arm from the airplane structure, and which could result in a landing gear collapse and consequent damage to the airplane and injury to occupants.

(f) Compliance

Comply with this AD within the compliance times specified, unless already done.

(g) Repetitive Detailed Inspections

(1) For airplanes identified in paragraphs (g)(1)(i) and (g)(1)(ii) of this AD on which the affected MLG has exceeded 8 years since first overhaul, as of the effective date of this AD, except those MLG that have had a second overhaul: Within 30 days after the effective date of this AD, accomplish a detailed inspection for visible chrome of each affected MLG sidestay upper cardan pin, and associated nut and retainer assembly, in accordance with the instructions of Airbus Alert Operators Transmission (AOT) A32L003-14, dated March 10, 2014, including Appendices 1, 2, and 3 (the issue date is not specified on the appendices).

(i) Airplanes equipped with any MLG sidestay upper cardan pin subassembly part number (P/N) 201267202 (on 201252 series MLG).

(ii) Airplanes equipped with any MLG sidestay upper cardan pin subassembly P/N 201483202 (on 201490 series MLG).

(2) If, during any inspection required by paragraph (g)(1) of this AD, no pin chrome is visible inboard of the wing rear spar fitting lug, repeat the detailed inspection for visible chrome specified in paragraph (g)(1) of this AD, thereafter at intervals not to exceed 10 days.

(3) If, during any inspection required by paragraphs (g)(1) or (g)(2) of this AD, pin chrome is visible inboard of the wing rear spar fitting lug, before further flight, replace the affected cardan pin assembly, in accordance with the instructions of Airbus AOT A32L003-14, dated March 10, 2014, including Appendices 1, 2, and 3 (the issue date is not specified on the appendices). Replacement of the affected cardan pin assembly terminates the need for repetitive inspections required by paragraph (g)(2) of this AD.

Note 1 to paragraph (g) of this AD: MLG sidestay upper cardan pin subassembly P/N 201267202 (found in Airbus Illustrated Parts Catalogue (IPC) as item 32-11-18-01) includes the cardan pin P/N 201267600. MLG sidestay upper cardan pin subassembly P/N 201483202 (found in Airbus IPC as item 32-11-18-01) includes the cardan pin P/N 201483600.

(h) Optional Terminating Action—Gap Check

Measuring the cardan pin clearance dimensions (gap check) and doing the applicable corrective action specified in paragraph (h)(1) or (h)(2) of this AD terminates the repetitive inspections required by paragraphs (g)(1) and (g)(2) of this AD for that sidestay upper cardan pin, nut, and retainer only. The measurement must be done in accordance with the instructions of Airbus AOT A32L003-14, dated March 10, 2014, including Appendices 1, 2, and 3 (the issue date is not specified on the appendices).

(1) If the total clearance dimension (gap check result) is equal to or greater than 1.5 mm, replace the cardan pin assembly, in accordance with Airbus AOT A32L003-14, dated March 10, 2014, including Appendices 1, 2, and 3 (the issue date is not specified on the appendices).

(2) If the total clearance dimension (gap check) is less than 1.5 mm but greater than 0.6 mm, do the actions specified in paragraphs (h)(2)(i) and (h)(2)(ii) of this AD.

(i) Send the information (Appendix 2 proforma, photographs, and the movement traceability sheet) specified in paragraph 4.2.3, “Findings” of Airbus AOT A32L003-14, dated March 10, 2014, including Appendices 1, 2, and 3, to Airbus at the address specified in Appendix 2 of Airbus AOT A32L003-14, dated March 10, 2014.

(ii) Repair using a method approved by the Manager, International Branch, ANM-116, Transport Airplane Directorate, FAA; or European Aviation Safety Agency (EASA) (or its delegated agent, or the Design Approval Holder with EASA's design organization approval, as applicable).

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or the DAH with a State of Design Authority's design organization approval, as applicable). You are required to ensure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(j) Related Information

Refer to Mandatory Continuing Airworthiness Information (MCAI) European Aviation Safety Agency Airworthiness Directive 2014-0066, (correction) dated March 20, 2014, for related information. You may examine the MCAI on the Internet at http://www.regulations.gov by searching for and locating Docket No. FAA-2014-0255.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission (AOT) A32L003-14, dated March 10, 2014, including Appendices 1, 2, and 3 (the issue date is not specified on the appendices).

(ii) Reserved.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on April 16, 2014.
Michael J. Kaszycki,
Acting Manager, Transport Airplane Directorate, Aircraft Certification Service.

[FR Doc. 2014-09412 Filed 4-28-14; 8:45 am]

BILLING CODE 4910-13-P